DEPARTMENT OF THE INTERIOR

Bureau of Ocean Energy Management

Gulf of Mexico (GOM), Outer Continental Shelf (OCS), Central Planning Area (CPA), Oil and Gas Lease Sale for the 2007-2012 5-Year OCS Program

AGENCY: Bureau of Ocean Energy Management (BOEM), Interior.

ACTION: Notice of Availability (NOA) of a Final Supplemental Environmental Impact Statement (EIS).

Authority: This NOA is published pursuant to the regulations (40 CFR part 1503) implementing the provisions of the National Environmental Policy Act (NEPA) of 1969, as amended (42 U.S.C. 4321 et seq. (1988)).

SUMMARY: BOEM has prepared a Final Supplemental EIS for CPA Consolidated Lease Sale 216/222, an oil and gas lease sale that is tentatively scheduled for June 2012, which will be the final lease sale in the 2007-2012 5-Year OCS Oil and Gas Leasing Program. The proposed sale is in the GOM's CPA off the States of Louisiana, Mississippi, and Alabama. This Final Supplemental EIS updates, for CPA Lease Sale 216/222, environmental and socioeconomic analyses that were originally conducted in an EIS that was completed in April 2007 and entitled, Gulf of Mexico OCS Oil and Gas Lease Sales: 2007-2012; Western Planning Area (WPA) Sales 204, 207, 210, 215, and 218; Central Planning Area (CPA) Sales 205, 206, 208, 213, 216, and 222, Final EIS (OCS EIS/EA MMS 2007-018) (Multisale EIS). This Final Supplemental EIS also updates, for CPA Lease Sale 216/222, environmental and socioeconomic analyses originally conducted in an EIS that was completed in September 2008 and entitled: GOM OCS Oil and Gas Lease Sales: 2009-2012; CPA Sales 208, 213, 216, and 222; WPA Sales 210, 215, and 218; Final Supplemental EIS (OCS EIS/EA MMS 2008-041) (2009-2012 Supplemental EIS).

SUPPLEMENTARY INFORMATION: BOEM developed the Final Supplemental EIS for CPA Lease Sale 216/222 in order to consider new circumstances and information arising from, among other things, the Deepwater Horizon event. This Final Supplemental EIS provides updates on the baseline conditions and potential environmental effects of oil and natural gas leasing, exploration, development, and production in the CPA. BOEM conducted an extensive search for new information made available since completion of the Multisale EIS and the 2009-2012 Supplemental EIS and in consideration of the Deepwater Horizon event, including scientific journals; interviews with personnel from academic institutions and Federal, State, and local government agencies; and available scientific data and information from academic institutions and Federal, State, and local government agencies. BOEM has reexamined the potential impacts associated with the proposed CPA lease sale and the proposed lease sale's incremental contribution to the cumulative impacts on environmental resources and socioeconomic factors. This analysis considers both routine activities and accidental events, and potentially large-scale, events. Like the Multisale EIS and the 2009-2012 Supplemental EIS, the oil and gas resource estimates and scenario information for this Final Supplemental EIS are presented as ranges that would likely be involved as a result of this proposed lease sale.

Final Supplemental EIS Availability: To obtain a single printed or CD-ROM copy of the Final Supplemental EIS for CPA Lease Sale 216/222, you may contact the BOEM, Gulf of Mexico OCS Region, Public Information Office (MS 5034), 1201 Elmwood Park Boulevard, Room 250, New Orleans, Louisiana 70123-2394 (1-(800) 200-GULF). An electronic copy of the Final Supplemental EIS (as well as links to the Multisale EIS and the 2009-2012 Supplemental EIS) is available at BOEM's Internet Web site at http://www.boem.gov/Environmental-Stewardship/Environmental-Assessment/NEPA/nepaprocess.aspx. The CD-ROM version of the Final Supplemental EIS also contains copies of the Multisale EIS and the 2009-2012 Supplemental EIS. Several libraries along the Gulf Coast have been sent copies of the Final Supplemental EIS. To find out the location of libraries that have copies of the Final Supplemental EIS, you may contact BOEM's Public Information Office or visit BOEM's Internet Web site at http://www.gomr.boem.gov/homepg/regulate/environ/libraries.html.

FOR FURTHER INFORMATION CONTACT: For more information on the Final Supplemental EIS, you may contact Mr. Gary D. Goeke, Bureau of Ocean Energy Management, Gulf of Mexico OCS Region, 1201 Elmwood Park Boulevard (MS 5410), New Orleans, Louisiana 70123-2394, or by email at CPASupplementalEIS@boem.gov. You may also contact Mr. Goeke by telephone at (504) 736-3233.

Dated: January 3, 2012.
Tommy P. Beaudreau,
Director, Bureau of Ocean Energy Management.

[FR Doc. 2012-1124 Filed 1-19-12; 8:45 am]

BILLING CODE 4310-VH-P